OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 6.6 and 213.103.

FOR FURTHER INFORMATION CONTACT: C. Penn, Group Manager, Executive Resources Services Group, Center for Human Resources, Division for Human Capital Leadership and Merit System Accountability, 202-606-2246.

SUPPLEMENTARY INFORMATION: Appearing in the listing below are the individual authorities established under Schedules A, B, and C between July 1, 2007, and July 31, 2007. Future notices will be published on the fourth Tuesday of each month, or as soon as possible thereafter. A consolidated listing of all authorities as of June 30 is published each year.

Schedule A

(b)(1) Positions of Resident Country Directors and Deputy Resident Country Directors. The length of appointments will correspond to the length or term of the compact agreements made between the Millennium Challenge Corporation (MCC) and the country in which MCC will work, plus one additional year to cover pre- and post-compact agreement related activities. Effective July 16, 2007.

Schedule B

No Schedule B appointments were approved for July 2007.

Schedule C

The following Schedule C appointments were approved during July 2007.

Section 213.3303 Executive Office of the President

Office of Management and Budget

BOGS70014 Special Assistant to the Chief of Staff. Effective July 17, 2007.

BOGS70017 Special Assistant to the Director Office of Management and Budget. Effective July 20, 2007.

Office of the United States Trade Representative

TNGS70004 Executive Assistant to the United States Trade Representative. Effective July 10, 2007.

TNGS70005 Director of Scheduling and Advance to the United States Trade Representative. Effective July 18, 2007.

Section 213.3304 Department of State

DSGS61098 Legislative Analyst to the Assistant Secretary for Legislative and Intergovernmental Affairs. Effective July 06, 2007.

DSGS61241 Special Advisor to the Assistant Secretary for Economic and Business Affairs. Effective July 06, 2007.

DSGS67921 Special Assistant to the Chief of Protocol. Effective July 20, 2007.

DSGS61243 Special Assistant to the Director, Policy Planning Staff. Effective July 23, 2007.

DSGS61062 Foreign Affairs Officer (Visits) to the Chief of Protocol. Effective July 26, 2007.

DSGS61202 Senior Advisor to the Coordinator for International Information Programs. Effective July 26, 2007.

DSGS61058 Staff Assistant to the Assistant Secretary Oceans, International Environment and Science Affairs. Effective July 27, 2007.

DSGS61036 Staff Assistant to the Assistant Secretary for Public Affairs. Effective July 30, 2007.

Section 213.3305 Department of the Treasury

DYGS00465 Special Assistant to the Assistant Secretary (Management) and Chief Financial Officer. Effective July 06, 2007.

DYGS00467 Associate Director to the White House Liaison. Effective July 27, 2007.

DYGS00498 Deputy Executive Secretary to the Deputy Chief of Staff and Executive Secretary. Effective July 27, 2007.

Section 213.3306 Department of Defense

DDGS17055 Public Affairs Specialist to the Assistant Secretary of Defense Public Affairs. Effective July 05, 2007.

DDGS17063 Personal and Confidential Assistant to the Special Assistant to the Secretary and Deputy Secretary of Defense. Effective July 05, 2007.

DDGS17052 Confidential Assistant to the Director of Defense Research and Engineering. Effective July 06, 2007.

DDGS17057 Defense Fellow to the Special Assistant to the Secretary of Defense for White House Liaison. Effective July 09, 2007.

DDGS17058 Special Assistant to the Assistant Secretary of Defense (Legislative Affairs). Effective July 09, 2007.

DDGS17064 Protocol Specialist to the Special Assistant to the Secretary of Defense for Protocol. Effective July 09, 2007.

DDGS17062 Special Assistant to the Director, Department of Defense Office of Legislative Counsel. Effective July 11, 2007.

DDGS17050 Advisor to the Special Assistant to the Secretary and Deputy Secretary of Defense. Effective July 13, 2007.

DDGS17056 Defense Fellow to the Special Assistant to the Secretary of Defense for White House Liaison. Effective July 13, 2007.

DDGS17060 Special Assistant to the Assistant Secretary of Defense (Legislative Affairs). Effective July 13, 2007.

DDGS17065 Staff Assistant for Correspondence to the Executive Secretary. Effective July 13, 2007.

DDGS17067 Special Assistant to the Assistant Secretary of Defense (Special Operations/Low Intensity Conflict and Interdependent Capabilities). Effective July 13, 2007.

DDGS17072 Special Assistant to the Under Secretary of Defense (Comptroller). Effective July 13, 2007.

DDGS17069 Defense Fellow to the Special Assistant to the Secretary of Defense for White House Liaison. Effective July 17, 2007.

DDGS17076 Defense Fellow to the Special Assistant to the Secretary of Defense for White House Liaison. Effective July 20, 2007.

DDGS17068 Special Assistant to the Director, Department of Defense Office of Legislative Counsel. Effective July 25, 2007.

DDGS17074 Congressional Inquiries Assistant to the Assistant Secretary of Defense (Legislative Affairs). Effective July 25, 2007.

DDGS17061 Research Assistant to the Assistant Secretary of Defense Public Affairs. Effective July 27, 2007.

DDGS17080 Staff Assistant to the Principal Deputy Under Secretary of Defense (Personnel and Readiness). Effective July 27, 2007.

DDGS17070 Defense Fellow to the Special Assistant to the Secretary of Defense for White House Liaison. Effective July 30, 2007.

DDGS17071 Special Assistant to the Assistant Secretary of Defense (Legislative Affairs). Effective July 30, 2007.

DDGS17075 Speechwriter to the Assistant Secretary of Defense Public Affairs. Effective July 30, 2007.

Section 213.3308 Department of the Navy

DNGS07299 Staff Assistant to the Under Secretary of the Navy. Effective July 16, 2007.

Section 213.3309 Department of the Air Force

DFGS00004 Special Assistant to the Principal Deputy Assistant Secretary (Financial Management). Effective July 09, 2007.

Section 213.3310 Department of Justice

DJGS00410 Senior Advisor to the Assistant Attorney General to the Office of Justice Programs. Effective July 09, 2007.

DJGS00344 Counsel to the Chief of Staff. Effective July 20, 2007.

DJGS00289 Counsel to the Counselor and Chief of Staff. Effective July 25, 2007.

Section 213.3311 Department of Homeland Security

DMGS00685 Assistant Director to the Assistant Secretary for Legislative Affairs. Effective July 09, 2007.

DMGS00686 Assistant Director to the Assistant Secretary for Legislative Affairs. Effective July 09, 2007.

DMGS00677 Senior Liaison Officer to the Executive Secretary. Effective July 10, 2007.

DMGS00681 Assistant Press Secretary to the Deputy Assistant Secretary for Media Relations and Press Secretary. Effective July 13, 2007.

DMGS00684 Counselor to the Commissioner to the Chief of Staff. Effective July 13, 2007.

DMGS00669 Director of Legislative Affairs for Intelligence and Operations to the Assistant Secretary for Legislative Affairs. Effective July 20, 2007.

DMGS00680 Advisor to the Director for Policy to the Director, Domestic Nuclear Detection Office. Effective July 20, 2007.

DMGS00687 Director of Faith Based and Community Initiatives to the Under Secretary for National Protection and Programs. Effective July 20, 2007.

DMGS00691 Governor and Homeland Security Advisor Coordinator to the Assistant Secretary for Intergovernmental Programs. Effective July 27, 2007.

DMGS00693 Special Assistant to the Assistant Secretary for Intelligence and Analysis. Effective July 27, 2007.

DMGS00694 Confidential Assistant to the General Counsel. Effective July 27, 2007.

DMGS00689 Advance Representative to the Director of Scheduling and Advance. Effective July 30, 2007.

DMGS00690 Advance Representative to the Director of Scheduling and Advance. Effective July 30, 2007.

Section 213.3312 Department of the Interior

DIGS01105 Special Assistant for Public Affairs to the Director, Take Pride In America. Effective July 20, 2007.

DIGS01106 Congressional Affairs Specialist to the Director, Congressional and Legislative Affairs. Effective July 23, 2007.

Section 213.3313 Department of Agriculture

DAGS00901 Confidential Assistant to the Administrator, Food and Nutrition Service. Effective July 09, 2007.

DAGS00908 Confidential Assistant to the Under Secretary for Natural Resources and Environment. Effective July 09, 2007.

DAGS00909 Special Assistant to the Administrator. Effective July 10, 2007.

DASL00085 Special Assistant to the Under Secretary for Rural Development. Effective July 12, 2007.

DAGS00910 Director of Legislative and Public Affairs to the Deputy Under Secretary for Rural Development. Effective July 23, 2007.

DAGS00911 Deputy Administrator for Special Nutrition Programs to the Under Secretary for Food Nutrition and Consumer Services. Effective July 23, 2007.

DAGS00912 Confidential Assistant to the Under Secretary for Food Safety. Effective July 23, 2007.

Section 213.3314 Department of Commerce

DCGS00582 Confidential Assistant to the Assistant Secretary for Export Enforcement. Effective July 20, 2007.

DCGS00676 Special Assistant to the Director, Advocacy Center. Effective July 20, 2007.

DCGS00012 Special Assistant to the Director, Executive Secretariat. Effective July 23, 2007.

DCGS00558 Confidential Assistant to the Chief of Staff. Effective July 27, 2007.

Section 213.3315 Department of Labor

DLGS60159 Senior Advisor to the Deputy Chief of Staff. Effective July 09, 2007.

DLGS60210 Deputy Director to the Director, Office of Faith Based and Community Initiatives. Effective July 09, 2007.

DLGS60172 Special Assistant to the Associate Deputy Secretary. Effective July 13, 2007.

Section 213.3316 Department of Health and Human Services

DHGS60547 Special Assistant to the Deputy Assistant Secretary for Public Affairs (Media). Effective July 17, 2007.

DHGS60130 Special Assistant to the Assistant Secretary for Health. Effective July 27, 2007.

Section 213.3317 Department of Education

DBGS00622 Confidential Assistant to the Executive Director. Effective July 06, 2007.

DBGS00623 Confidential Assistant to the Assistant Secretary for Elementary and Secondary Education. Effective July 09, 2007.

DBGS00625 Confidential Assistant to the Director, Scheduling and Advance Staff. Effective July 20, 2007.

DBGS00628 Confidential Assistant to the Chief of Staff. Effective July 27, 2007.

DBGS00627 Confidential Assistant to the Special Assistant. Effective July 30, 2007.

Section 213.3318 Environmental Protection Agency

EPGS07016 Assistant to the Chief of Staff. Effective July 09, 2007.

EPGS07014 Advance Specialist to the Deputy Chief of Staff (Operations). Effective July 20, 2007.

EPGS05018 Deputy Associate Administrator for Office of Congressional Affairs to the Associate Administrator for Congressional and Intergovernmental Relations. Effective July 27, 2007.

EPGS07018 Program Advisor to the Associate Administrator for Public Affairs. Effective July 30, 2007.

Section 213.3331 Department of Energy

DEGS00601 Policy Advisor to the Deputy Assistant Secretary. Effective July 05, 2007.

DEGS00602 Special Assistant to the Deputy Assistant Secretary. Effective July 05, 2007.

DEGS00606 Deputy Assistant Secretary for Environmental Management and Budget to the Assistant Secretary for Congressional and Intergovernmental Affairs. Effective July 23, 2007.

Section 213.3337 General Services Administration

GSGS60069 Events Management Specialist to the Deputy Associate Administrator for Communications. Effective July 06, 2007.

GSGS00079 Special Assistant to the Regional Administrator, Region 2, New York. Effective July 10, 2007.

GSGS00167 Confidential Assistant to the Chief of Staff. Effective July 25, 2007.

Section 213.3344 Occupational Safety and Health Review Commission

SHGS00002 Confidential Assistant to the Commission Member (Chairman). Effective July 17, 2007.

Section 213.3348 National Aeronautics and Space Administration

NNGS30116 White House Liaison to the Administrator. Effective July 11, 2007.

Section 213.3379 Commodity Futures Trading Commission

CTOT60002 Administrative Assistant to the Chairperson. Effective July 30, 2007.

Section 213.3384 Department of Housing and Urban Development

DUGS60517 Regional Director to the Assistant Deputy Secretary for Field Policy and Management. Effective July 17, 2007.

Section 213.3394 Department of Transportation

DTGS60372 Deputy Assistant Secretary for Governmental Affairs. Effective July 24, 2007.

Authority: 5 U.S.C. 3301 and 3302; E.O. 10577, 3 CFR 1954-1958 Comp., p. 218.

U.S. Office of Personnel Management.
Howard Weizmann,
Deputy Director.

[FR Doc. E7-18696 Filed 9-20-07; 8:45 am]

BILLING CODE 6325-39-P